DEPARTMENT OF LABOR

Employment and Training Administration

[TA-W-81,608]

Pentair Pump Group, Inc.; Including Workers Paid Through Pentair Flow Technologies and Including On-Site Leased Workers From Spherion; Ashland, Ohio; Amended Certification Regarding Eligibility To Apply for Worker Adjustment Assistance

In accordance with Section 223 of the Trade Act of 1974, as amended (“Act”), 19 U.S.C. 2273, the Department of Labor issued a Certification of Eligibility To Apply for Worker Adjustment Assistance on May 26, 2012, applicable to workers Pentair Pump Group, Inc., including on-site leased workers from Spherion, Ashland, Ohio. The Department's notice of determination was published in the Federal Register on June 6, 2012 (77 FR 33495).

The Department reviewed the certification for workers of the subject firm. The workers are engaged in activities related to production of pumps, pump components and reciprocating pumps.

A review by the Department revealed that workers are paid through Pentair Flow Technologies. The intent of the Department is to cover all workers of Pentair Pump Group, including workers paid through Pentair Flow Technologies, and including on-site leased workers from Spherion, who were affected by a shift in production to a foreign country.

The amended notice applicable to TA-W-81,608 is hereby issued as follows:

All workers of Pentair Pump Group, Inc., including workers paid through Pentair Flow Technologies, and including on-site leased workers from Spherion, Ashland, Ohio, who became totally or partially separated from employment on or after May 26, 2012 through May 24, 2014 and all workers in the group threatened with total or partial separation from employment on the date of certification through May 24, 2014, are eligible to apply for adjustment assistance under Chapter 2 of Title II of the Trade Act of 1974, as amended.

Signed in Washington, DC, this 29th day of April, 2014.
Michael W. Jaffe,
Certifying Officer, Office of Trade Adjustment Assistance.

[FR Doc. 2014-11636 Filed 5-20-14; 8:45 am]

BILLING CODE 4510-FN-P